DEPARTMENT OF HEALTH AND HUMAN SERVICES

Office of the Secretary

Agency Information Collection Activities: Submission for OMB Review; Comment Request

The Department of Health and Human Services, Office of the Secretary publishes a list of information collections it has submitted to the Office of Management and Budget (OMB) for clearance in compliance with the Paperwork Reduction Act of 1995 (44 U.S.C. Chapter 35) and 5 CFR 1320.5. The following are those information collections recently submitted to OMB.

1. HHS Acquisition Regulations (HHSAR) part 342; Contract Administration—0990-0131—Extension/no change—HHSAR 342.7101 requires reporting information when a cost overrun is anticipated. The information is used to determine if the anticipated overrun is reasonable. Respondents: State or local governments, business or other for-profit, non-profit institutions, small businesses; Number of Annual Respondents: 110; Average Burden per Response: 20 hours; Total Burden: 2,200 hours.

2. HHS Acquisition Regulations (HHSAR) part 324; Protection of Privacy and Freedom of Information—0990-0136-Extension/no change—The confidentiality of information reporting requirements are needed to prevent the disclosure of confidential information. Respondents: State or local governments, business or other for-profit, non-profit institutions, small businesses; Annual Number of Respondents: 430; Average Burden per Response: 8 hours; Total Burden: 3,440 hours.

3. Uniform Administrative Requirements for Grants and Cooperative Agreements to State and Local Governments—0990-0169-Extension/no change-Pre-award, post-award and subsequent reporting and recordkeeping requirements are necessary to award, monitor, close out and manage grant programs, assure minimal fiscal control and accountability for Federal funds and deter fraud, waste and abuse. Respondents: State or local governments; Annual Number of Respondents: 4,000; Average Burden per Respondent: 70 hours; Total Annual Burden: 280,000 hours. OMB Desk Officer: Allison Herron Eydt

Copies of the information collection packages listed above can be obtained by calling the OS Reports Clearance Officer on (202) 690-6207. Written comments and recommendations for the proposed information collection should be sent directly to the OMB desk officer designated above at the following address:

Human Resources and Housing Branch, Office of Management and Budget, New Executive Office Building, Room 10235, 725 17th Street, NW., Washington, DC 20503.

Comments may also be sent to Cynthia Agens Bauer, OS Reports Clearance Officer, Room 503H, Humphrey Building, 200 Independence Avenue SW., Washington DC, 20201. Written comments should be received within 30 days of this notice.

Dated: September 30, 2002.
Kerry Weems,
Deputy Assistant Secretary, Budget.

[FR Doc. 02-25985 Filed 10-10-02; 8:45 am]

BILLING CODE 4151-17-M